DEPARTMENT OF AGRICULTURE

Cooperative State Research, Education, and Extension Service

Forestry Research Advisory Council Meeting; Office of the Under Secretary, Research, Education, and Economics

ACTION: Announcement of meeting.

SUMMARY: In accordance with the Federal Advisory Committee Act, 5 U.S.C. App. 2, the United States Department of Agriculture announces a meeting of the Forestry Research Advisory Council.

SUPPLEMENTARY INFORMATION: Section 1441(C) of the Agriculture and Food Act of 1981 requires the establishment of the Forestry Research Advisory Council (FRAC) to provide advice to the Secretary of Agriculture on accomplishing efficiently the purposes of the Act of October 10, 1962 (16 U.S.C. 582a, et seq.) known as the McIntire-Stennis Act of 1962. The Council also provides advice related to the U.S. Forest Service research program, authorized by the Forest and Rangeland Renewable Resources Research Act of 1978 (P.L. No. 95-307, 92 Stat. 353, as amended; 16 U.S.C. 1641 et seq. The Council which has two vacancies is composed of 18 voting members from: Federal and State agencies, forest industries, forestry schools and State agricultural experiment stations, and volunteer public groups.

DATE AND LOCATION: The Council will meet on September 11, 2000, from 8:30 a.m. to 4:00 p.m., and on September 12, 2000, from 8:30 a.m. to 12:00 noon in the Plant and Animal Systems conference room (Rm. 3302) of the Waterfront Centre located at 800 9th Street, SW., Washington, DC 20024. The meeting is open to the public. The purposes of the meeting are: a) to hear reports from the Forest Service, the Cooperative State Research, Education, and Extension Service (CSREES), forest Industries, and the National Association of Professional Forestry Schools and Colleges; and b) to formulate advice on Federal and State forestry research for the Secretary of Agriculture. A complete agenda will be available immediately prior to the meeting, and to obtain a copy beforehand, contact the FRAC Coordinator.

COMMENTS: Written comments, limited to five pages in 12-point pitch, will be accepted and can be submitted at the time of the session or sent to the FRAC Coordinator. Those wanting to make oral comments should preregister on or before the session date by contacting the FRAC Coordinator. All statements will become a part of the official records of the FRAC and will be kept on file for public review in the FRAC Coordinator's office (Rm. 3413, Waterfront Center, 800 9th Street, SW., Washington, DC 20024).

FOR FURTHER INFORMATION CONTACT: Dr. Catalino A. Blanche, FRAC Coordinator, Cooperative State Research, Education, and Extension Service; U.S. Department of Agriculture; STOP 2210; 1400 Independence Avenue, SW., Washington, DC 20250-2210; Telephone, (202) 401-4190; fax number (202) 401-1706; e-mail address, cblanche@reeusda.gov.

Done at Washington, DC, this 23rd day of August 2000.
Eileen Kennedy,
Deputy Under Secretary, Research, Education, and Economics.

[FR Doc. 00-21935 Filed 8-23-00; 5:00 pm]

BILLING CODE 3410-22-P